OFFICE OF THE DIRECTOR OF NATIONAL INTELLIGENCE

[OMB Control No.-3440-NEW]

Office of the Chief Human Capital Officer; Information Collection; Ancestry and Ethnicity Data Elements; Information Collection Activities: Proposed Collection; Comment Request

AGENCY: Office of the Director of National Intelligence (ODNI).

ACTION: Information Collection Activities: Proposed Collection; Comment Request—30 Day Comment Period.

SUMMARY: Comments received by the Office of Personnel Management and the Office of Management and Budget during the 60 day and 30 day comment periods announced in the Federal Register, vol. 74, no. 89, dated May 11, 2009 and vol. 74, no. 167 dated August 31, 2009, resulted in revisions to the proposed information collection instrument. Revisions include a statement of authorities for collecting the information as well as detailed privacy and paperwork reduction act statements, as the previous proposal did not include sufficient detail in this regard. Revisions also include making the collection instrument a stand alone form, and not an addendum to the SF 181, Ethnicity and Race Identification, as previously proposed. The data captured from this proposed collection instrument is to assess the IC's progress in recruitment and retention and not for equal employment opportunity business purposes. Therefore, in accordance with the Paperwork Reduction Act (44 U.S.C. 3501 et seq.), the ODNI invites the general public and Federal agencies to comment on the standard data elements being reviewed under regular review procedures for use by the Intelligence Community agencies and elements, as defined by the National Security Act of 1947, as amended. The title of the standard data element set is “Ancestry and Ethnicity Data Elements”, and is for the purpose of collecting ancestry and ethnicity data not currently captured by the Intelligence Community. Data collected, obtained by responding to three questions, will assist the Intelligence Community in recruiting and retaining employees of various national, sub-national, cultural and ethnic backgrounds important to the Intelligence Community's mission. Once the standard data elements are approved, each Federal agency and element of the Intelligence Community may make the form available to every Intelligence Community job applicant to voluntarily report this information and data through use of a paper form or other agency information collection process. Public comments are particularly invited on: Whether this collection of information is necessary and whether it will have practical utility; whether our estimate of the public burden of this collection of information is accurate, and based on valid assumptions and methodology; ways to enhance the quality, utility, and clarity of the information to be collected. These data elements can be viewed on the Web site http://www.intelligence.gov. Click on Careers, A Place For You, which will direct you to http://intelligence.gov/3place.shtml. Click on the Federal Register—Data Elements link.

DATES: Comments must be submitted on or before April 12, 2010.

FOR FURTHER INFORMATION CONTACT: The Office of the Chief Human Capital Officer, ODNI, Washington, DC 20511, 703-275-3369. Please cite OMB Control No. 3440-NEW, Ancestry and Ethnicity Data Elements. The form can be downloaded from http://www.intelligence.gov as noted above.

ADDRESSES: Submit comments regarding this burden estimate or any other aspect of this collection of information, including suggestions for reducing this burden via http://www.regulations.gov—a Federal E-Government Web site that allows the public to find, review, and submit comments on documents that agencies have published in the Federal Register and that are open for comment. Simply type a key term in the information collection title such as “Ancestry and Ethnicity” in quotes in the Comment or Submission search box, click Go, and follow the instructions for submitting comments. Comments received by the date specified above will be included as part of the official record.

SUPPLEMENTARY INFORMATION:

A. Purpose

This request concerns a new information collection vehicle and is for the purpose of collecting ancestry and ethnicity data from job applicants and employees. Data collected, obtained by responding to three questions, will enable the Intelligence Community to assess progress in recruiting and retaining U.S citizens who possess native or near-native familiarity with the culture of countries and geographic regions relevant to national security interests.

B. Annual Reporting Burden

Respondents: 50,000.

Responses per Respondent: 3.

Hours per Response: 1 minute.

Total Burden Hours: 3 minutes.

Obtaining Copies of Proposals: Requesters may obtain a copy of the information collection documents from the Office of the Chief Human Capital Officer, ODNI, at Washington, DC 20511, or call 703-275-3369. Please cite Ancestry and Ethnicity Data Elements in all correspondence.

Sherrill Nicely,
DNI PRA Clearance Officer.

[FR Doc. 2010-5469 Filed 3-11-10; 8:45 am]

BILLING CODE 3910-A7-P